DEPARTMENT OF THE INTERIOR

National Park Service

Green Spring Unit, Colonial National Historical Park, Virginia

AGENCY: National Park Service, Department of the Interior.

ACTION: Availability of Final General Management Plan Amendment and Abbreviated Final Environmental Impact Statement for Green Spring Unit, Colonial National Historical Park.

SUMMARY: Pursuant to section 102(2)(C) of the National Environmental Policy Act of 1969, the National Park Service announces the availability of a Final General Management Plan Amendment and Abbreviated Final Environmental Impact Statement (Final GMPA/AEIS) for Green Spring Unit, Colonial National Historical Park, Virginia. The Final GMPA/AEIS proposes a long-term approach to managing Green Spring. Consistent with the park's mission, NPS policy, and other laws and regulations, three alternatives are presented to guide the management of the park over the next 15 to 20 years. The alternatives incorporate various zoning and management prescriptions to ensure resource preservation and public enjoyment of the park. The environmental consequences that are anticipated from implementing the various alternatives are evaluated in the report. Impact topics include cultural and natural resources, visitor experience, park operations, the socioeconomic environment, cumulative impacts and sustainability. Alternative C is the preferred alternative. After a 30-day no action period, a Record of Decision will be prepared. The Process is anticipated to be completed in August 2003.

DATES: The Draft GMPA/EIS was on public review from May 2 through July 11, 2001. Responses to public comment are addressed in the Final GMPA/AEIS. A 30-day no-action period will follow the Environmental Protection Agency's Notice of Availability of the Final GMPA/AEIS.

To Request Copies of the Document Contact: Superintendent, Colonial National Historical Park, Post Office Box 210, Yorktown, Virginia 23690, (757) 898-3400. Public reading copies of the Final GMPA/AEIS will be available for review at the following locations:

• Colonial National Historical Park, Park Headquarters, Yorktown Visitor Center, Yorktown, Virginia, Telephone: (757) 898-3400.

• Williamsburg Regional Library, 515 Scotland Street, Williamsburg, Virginia.

• James City County Library, 7770 Croaker Road, Williamsburg, Virginia.

• John D. Rockefeller, Jr. Library, 313 1st Street Williamsburg, Virginia.

• Office of Public Affairs, National Park Service, Department of Interior, 18th and C Streets NW, Washington, DC 20240,Telephone: (202) 208-6843.

FOR FURTHER INFORMATION CONTACT: Superintendent, Colonial National Historical Park, at the above address and telephone number.

Dated: July 1, 2003.
Alec Gould,
Superintendent, Colonial National Historical Park, National Park Service.

[FR Doc. 03-18701 Filed 7-22-03; 8:45 am]

BILLING CODE 4312-JM-P